DEPARTMENT OF HEALTH AND HUMAN SERVICES

Administration for Children and Families

[Notice of Program Announcement No. ACF/ACYF/HS 2002-01]

Discretionary Announcement for Select Service Areas of Early Head Start; Availability of Funds and Request for Applications

AGENCY: Administration on Children, Youth and Families (ACYF), Administration for Children and Families (ACF), DHHS.

ACTION: Notice of availability of Early Head Start financial assistance for select service areas and request for applications.

SUMMARY: The Administration on Children, Youth and Families announces financial assistance to be competitively awarded to local public and local non-profit and for-profit private entities—including Early Head Start and Head Start grantees—to provide child and family development services for low-income families with children under age three and pregnant women. Early Head Start programs provide early, continuous, intensive and comprehensive child development and family support services on a year-round basis to low-income families. The purpose of the Early Head Start program is to enhance children's physical, social, emotional, and intellectual development; to support parents' efforts to fulfill their parental roles; and to help parents move toward self-sufficiency.

The funds available will be competitively awarded to eligible applicants to operate Early Head Start programs in select service areas. (See Parts I and II of Appendix A for a listing of select service areas.)

Grants will be competitively awarded to eligible applicants, including current Head Start and Early Head Start grantees, to operate Early Head Start programs in select service areas. In awarding these grants, ACYF is interested in assuring that those communities currently served (i.e., the service areas listed in Parts I and II of Appendix A) will have an opportunity to continue receiving services for low-income families with infants and toddlers and pregnant women through Early Head Start. In addition, ACYF wants to ensure continued services for families who are currently receiving EHS services in these communities.

Applicants in each select service area will compete for funds against other applicants wishing to serve the same select service area.

DATES: The closing date and time for receipt of applications for service areas listed in Part I of Appendix A is 5 p.m. (EST) on December 3, 2001.

The closing date and time for receipt of applications for service areas listed in Part II of Appendix A is 5 p.m. (EST) on April 1, 2002.

Note: Applications should be submitted to the ACYF Operations Center at: 1815 N. Fort Myer Drive, Suite 300, Arlington, VA 22209. However, prior to preparing and submitting an application, in order to satisfactorily compete under this announcement, it will be necessary for potential applicants to read the full announcement which is available through the addresses listed below.

ADDRESSES: A copy of the program announcement, necessary application forms, and other appendices can be obtained by contacting: Early Head Start, ACYF Operations Center, 1815 North Fort Myer Drive, Suite 300, Arlington, Virginia 22209. The telephone number is 1-800-351-2293. Or e-mail to: ehs@lcgnet.com

Copies of the program announcement and necessary application forms can be downloaded from the Head Start Web site at: www.acf.dhhs.gov/programs/hsb

FOR FURTHER INFORMATION CONTACT: ACYF Operations Center at: 1815 N. Fort Myer Drive, Suite 300, Arlington, VA 22209 or telephone: 1-800-351-2293 or e-mail to: ehs@lcgnet.com

SUPPLEMENTARY INFORMATION: Eligible Applicants: Applicants eligible to apply to become an Early Head Start program are local public and local non-profit and for-profit private entities. Early Head Start and Head Start grantees are eligible to apply.

Project Duration: The competitive awards made through this announcement will be for one-year budget periods and an indefinite project period. Subsequent year budget awards will be made non-competitively, subject to availability of funds and the continued satisfactory performance of the applicant. Current EHS grantees in good standing, who submit acceptable applications, will be given priority in funding decisions.

Federal Share of Project Costs: In most cases, the Federal share will not be more than 80 percent of the total approved costs of the project.

Matching Requirements: Grantees that operate Early Head Start programs must, in most instances, provide a non-Federal contribution of at least 20 percent of the total approved costs of the project.

Available Funds: See Parts I and II of Appendix A for the list of the select service areas and for the amount of funding available for each area.

Anticipated Number of Projects To Be Funded: It is estimated that there will be one award for each of the select service areas.

Statutory Authority: The Head Start Act, as amended, 42 U.S.C. 9831 et seq.

Evaluation Criteria

Competing applications for financial assistance will be reviewed and evaluated on the six criteria which are summarized below. The point values following each criterion indicate the numerical weight each criterion will be accorded in the review process.

Criterion 1. Objectives and Need for Assistance (15 points)

The extent to which, based on community assessment information, the applicant identifies any relevant physical, economic (e.g., poverty in the community), social, financial, institutional, or other issues which demonstrate a need for the Early Head Start program.

The extent to which the applicant lists relevant program objectives that adequately address the strengths and needs of the community.

The extent to which the applicant describes the population to be served by the project.

The extent to which the applicant gives a precise location and rationale for the project site(s) and service area to be served by the proposed project.

Criterion 2. Results or Benefits Expected (10 points)

The extent to which the applicant identifies the results and benefits to be derived from the project and links these to the stated objectives.

The extent to which the applicant describes the kinds of data to be collected and how they will be utilized to measure progress towards the stated results or benefits.

Criterion 3. Approach (25 points)

The extent to which the applicant demonstrates a thorough knowledge and understanding of the Head Start Program Performance Standards.

The extent to which the applicant explains why the approach chosen is effective in light of the needs, objectives, results and benefits described above.

The extent to which the approach is grounded in recognized standards and/or guidelines for high quality service provision or is defensible from a research or “best practices” standpoint.

Criterion 4. Staff and Position Data and Organization Profiles (15 points)

The extent to which the proposed program director, proposed key project staff, the organization's experience, including experience in providing early, continuous, and comprehensive child and family development services, and the organization's history with the community demonstrate the ability to effectively and efficiently administer a project of this size, complexity and scope.

The extent to which the applicant's management plan demonstrates sufficient management capacity to implement a high quality Early Head Start program.

The extent to which the organization demonstrates an ability to carry out continuous improvement activities.

Criterion 5. Third Party Agreements/Collaboration (15 points)

The extent to which the applicant presents documentation of efforts (letters of commitment, interagency agreements, etc.) to establish and maintain ongoing collaborative relationships with community partners.

The extent and thoroughness of approaches to combining Early Head Start resources and capabilities with those of other local child care agencies and providers to provide high quality child care services to infants and toddlers which meet the Head Start Program Performance Standards.

Criterion 6. Budget and Budget Justification (20 points)

The extent to which the program's costs are reasonable in view of the planning and activities to be carried out and the anticipated outcomes.

The extent to which the program has succeeded in garnering cash or in-kind resources, in excess of the required Federal match, from local, State, other Federal or private funding sources. The extent to which costs for facilities are reasonable and cost effective.

The extent to which the salaries and fringe benefits reflect the level of compensation appropriate for the responsibilities of staff.

The extent to which assurances are provided that the applicant can and will contribute the non-Federal share of the total project cost.

Required Notification of the State Single Point of Contact

This program is covered under Executive Order 12372, “Intergovernmental Review of Federal Programs,” and 45 CFR part 100, “Intergovernmental Review of Department of Health and Human Services Programs and Activities.” Under the Order, States may design their own processes for reviewing and commenting on proposed Federal assistance under covered programs.

All States and territories except Alabama, Alaska, Colorado, Connecticut, Hawaii, Idaho, Kansas, Louisiana, Massachusetts, Minnesota, Montana, Nebraska, New Jersey, New York, Ohio, Oklahoma, Oregon, Pennsylvania, South Dakota, Tennessee, Vermont, Virginia, Washington, American Samoa, and Palau have elected to participate in the Executive Order process and have established Single Points of Contact (SPOCs). Applicants from these jurisdictions need not take action regarding Executive Order 12372.

Applications for projects to be administered by Federally recognized Indian Tribes are also exempt from the requirements of Executive Order 12372. Otherwise, applicants should contact their SPOC as soon as possible to alert them to the prospective application and to receive any necessary instructions. Applicants must submit any required material to the SPOC as early as possible so that the program office can obtain and review SPOC comments as part of the award process. It is imperative that the applicant submit all required materials, if any, to the SPOC and indicate the date of this submittal (or date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to the ACF, they should be addressed to: William Wilson, Head Start Bureau, Grants Officer, 330 C Street SW, Room 2220, Washington, DC 20447. Attn: Early Head Start Competition for Select Service Areas.

A list of the Single Points of Contact for each State and Territory can be found on the following Web site: http://www.whitehouse.gov/omb/grants/spoc.html

(Catalog of Federal Domestic Assistance Program Number 93.600, Project Head Start)

Dated: September 14, 2001.
James A. Harrell,
Acting Commissioner, Administration on Children, Youth and Families.

Appendix A

Early Head Start Service Areas—FY 2002 Recompetition
State and county | FY 2002 funding level | Service area (local community)
Part I: Applications for Part I Are Due December 3, 2001
Alabama:
Jefferson | $1,265,357 | Birmingham, Bessemer, Tarrant City, Centerpoint, Adamsville, Grayville, Brookville, Sayre, Roebuck, Ensley, Forrestdale, Gardendale, and other small unincorporated areas.
Lee | 708,461 | Entire County.
Russell |  | Entire County.
Alaska: None.
Arizona: None.
Arkansas: None.
California: Alameda | 2,135,387 | West Oakland, San Antonio, Fruitvale, Central East Oakland and Elmhurst.
Colorado: None.
Connecticut: Fairfield | 763,728 | City of Stamford.
Delaware:
New Castle | 1,603,987 | Entire County.
Kent |  | Entire County.
Sussex | 518,022 | Georgetown.
Florida: Broward | 753,581 | Pompano Beach, Hollywood.
Georgia:
Whitfield | 758,754 | Entire County, except south of Tilton and north of Varnell.
Murray |  | Entire County, except north of Eton and south to North Georgia Speedway.
Hawaii: None.
Idaho:
Bonner | 1,229,383 | Community of Sand Point.
Kootenai |  | Cities of Coeur d'Alene, Post Falls and surrounding areas.
Nez Perce | 443,846 | Nez Perce County, Idaho, except Nez Perce Reservation; also serving Asotin County in the State of Washington.
Illinois: Cook | 1,138,266 | New City, West Englewood, and Englewood Communities.
Indiana: None.
Iowa: None.
Kansas: None.
Kentucky:
Bourbon | 2,211,967 | Entire County.
Fayette |  | Entire County.
Harrison |  | Entire County.
Nicholos |  | Entire County.
Scott |  | Entire County.
Louisiana: Orleans Parish | 2,001,807 | Entire Parish.
Maine: None.
Maryland: None.
Massachusetts: Suffolk | 1,178,252 | City of Boston.
Michigan:
Ionia | 892,986 | Entire County.
Isabella |  | Entire County.
Gratiot |  | Entire County.
Montcalm |  | Entire County.
Chippewa | 1,571,440 | Bay Mills Reservation.
Baraga |  | Keweehaw Reservation.
Gogebic |  | Lac Vieux Desert Reservation.
Menominee |  | Hannahville Reservation.
Delta |  | Little Traverse Bay Band Reservation.
Emmet |  | Little Traverse Bay Band Reservation.
Charlevoix |  | Pokagom Reservation.
Otsego |  | Pokagom Reservation.
Cass |  | Pokagom Reservation.
Berrien |  | Entire County.
Van Buren |  | Entire County.
Minnesota: None.
Mississippi:
Calhoun | 1,332,293 | Entire County.
Lauderdale |  | Meridian.
Leflore |  | Greenwood.
Perry |  | Entire County.
Printiss |  | Entire County.
Warren |  | Vicksburg.
Missouri: None.
Montana: None.
Nebraska: Douglas | 1,224,593 | City of Omaha: an area bordered on the North by I-680; on the East by the Missouri River; on the South by Harrison Street (Sarpy County Line); and on the West by 72nd Street.
Nevada:
Clark | 1,290,433 | Las Vegas, North Las Vegas and Henderson.
Elko |  | Entire County.
Whitepine |  | Entire County.
New Hampshire: None.
New Jersey: None.
New Mexico:
Bernalillo | 1,906,549 | Within Bernalillo County, boundaries are described as the following:
|  | (1) Eastern boundary is the Sandia Mountains, south to Kirtland AFB, west to Wyoming Blvd., and north to Indian School.
|  | (2) Eastern boundary is Wyoming Blvd, south to Kirtland AFB, west to Louisiana at San Pedro at Louisiana, and north to Copper.
|  | (3) Eastern boundary is the Sandia Mountains, south to Indian School, west to Eubank and north to the Bernalillo County line.
|  | (4) Eastern boundary is Eubank on the East, south to Indian School, west to San Mateo, south to Indian School at Montgomery, and north to the Bernalillo County line.
|  | (5) Eastern boundary is San Mateo, south to the I-40 Freeway at Candelaria, west to Rio Grande and Edith, and north to Ortega Road.
|  | (6) Eastern boundary is Rio Grande River, south to Bridge Street, west to 98th Street, and north to I-40.
|  | (7) Eastern boundary is 98th Street, south to 122nd Street at Valley Road, west to 122nd Street, and north to I-40.
|  | (8) Eastern boundary is Tapia to Joe Sanchez Road, south to Rio Bravo, west to Coors, and north to Arenal.
|  | (9) Eastern boundary is Girard, south to Airport Terminal Road, west to I-25, and north to Coal.
|  | (10) Eastern boundary is Val Verde, south to Gibson to Smith, west to Girard, and north to Silver.
San Juan | 2,058,806 | Entire County, except the Alamo Navajo Reservation.
Santa Fe |  | Entire County.
Sandoval |  | Cities of Bernalillo, Cuba, and Rio Rancho.
Torrance |  | Entire County.
New York: None.
North Carolina:
Rowan | 1,089,411 | Entire County.
Davison |  | Entire County.
Montgomery |  | Entire County.
Moore |  | Entire County.
Stanley |  | Entire County.
Wayne | 1,295,147 | Entire County.
North Dakota
Benson | 486,892 | Entire County with the exception of the Spirit Lake Reservation boundary.
Ramsey |  | Entire County with the exception of the Spirit Lake Reservation boundary.
Wells |  | Entire County.
Ohio: None.
Oklahoma:
Creek | 1,294,163 | Entire County.
Okmulgee |  | Entire County.
Tulsa |  | An area bounded on the West by the Creek County line; on the South by the Okmulgee County line; on the East, by Hwy 75, from the Okmulgee County line north to 71st St., east to Peoria Avenue, and north to 15th St; and on the North by 15th Street to the Arkansas River to the Creek County line.
Potawatomi | 342,058 | The Sac, Fox and Absentee Shawnee Districts of Potawatomi County.
Oregon: Multnomah | 2,410,009 | City of Portland: an area bounded by the Willamette River on the West; the Columbia River on the North; Holgate Blvd on the South; and N.E. 122nd Ave to the East (excluding the Enterprise Zone between N.E. Skidmore and N.E. Tillamook Streets).
| 700,900 | City of Portland: an area bounded by Holgate Avenue on the North; the Multnomah County line to the South; S.E. 45th Street to the West; and 122nd Avenue to the East. After 122nd, the service area extends North to Burnside and out to S.E. 162nd Avenue (Lents Junction).
Pennsylvania: None.
Rhode Island:
Bristol | 1,204,567 | Bristol, Warren and Barrington.
Newport |  | Entire County.
Providence |  | Town of East Providence.
South Carolina: None.
South Dakota:
Jackson | 1,165,251 | Pine Ridge Reservation.
Shannon |  | Pine Ridge Reservation.
Tennessee: None.
Texas: None.
Utah: None.
Vermont: None.
Virginia: None.
Washington
King | 805,124 | City of Seattle: Yesler Terrace, Holly Park, High Point, and Rainer Vista Public Housing Districts.
Snohomish | 339,150 | City of Everett.
Asotin | (see Nez Perce, ID). | (see Nez Perce, ID).
West Virginia: None.
Wisconsin: None.
Wyoming: Fremont | 524,629 | Wind River Reservation.
District of Columbia: None.
Commonwealth of Puerto Rico: Municipality of Carolina | 1,177,703 | Carolina
Part II: Applications for Part II Are Due April 1, 2002
Alabama: None.
Alaska: None.
Arizona: None.
Arkansas: Sebastian | 379,331 | All of wards one and two on the North side of Fort Smith, joined and bordered by the Arkansas River on the North, East and West, ending to the South at Rogers Avenue, Dodson Avenue, and Euper Lane.
California:
San Diego | 4,875,979 | Carlsbad, Encinitas, Del Mar, Solana Beach, Escondido, San Diego, Poway, Coronado, La Mesa, El Cajon, Lemon Grove, Santee, Ramona, Palomar Julain, Anza Borrego, Lakeside, Spring Valley, Jamul, Harbinson Crest, Laguna Pine Valley, Mountain Empire, Alpine, Chula Vista, National City, Imperial Beach, Nestor.
San Francisco | 1,305,510 | Chinatown, Tenderloin, Visitation Valley; and parts of Northbeach, Civic Center, and Bayview Hunters Point.
Shasta | 1,905,903 | Entire County.
Siskyu |  | Community of Weed.
Trinity |  | Cities of Weaverville and Hayfork.
Colorado: None.
Connecticut: None.
Delaware: None.
Florida: Sarasota | 355,729 | Sarasota, Cities of Newton, Venice and North Port.
Georgia: None.
Hawaii: Hawaii | 511,920 | South Kona, North Kona, South Kahala, North Kahala, and Ka'u.
Idaho: None.
Illinois:
Champaign | 670,476 | Entire County.
Cook | 681,572 | South Chicago and Lower West Side Communities.
St. Clair | 1,201,065 | District 1: East St. Louis; District 3: Cahokia; Centreville.
Indiana:
Blackford | 748,478 | Entire County.
Grant |  | Entire County.
Howard | 769,692 | Entire County.
Miami |  | Entire County.
Marshall | 403,585 | Entire County.
Starke |  | Entire County.
Tippecanoe | 547,969 | Entire County.
Posey | 816,194 | Entire County.
Vanderburg |  | Entire County.
Iowa:
Allamakee | 657,202 | Entire County.
Clayton |  | Entire County.
Blackhawk | 1,002,046 | City of Waterloo.
Des Moines | 696,073 | Entire County.
Henry |  | Entire County.
Lee |  | Entire County.
Louisa |  | Entire County.
Kansas:
Atchinson | 577,946 | Entire County.
Brown |  | Entire County.
Doniphan |  | Entire County.
Jefferson |  | Entire County.
Leavenworth |  | Entire County.
Marshall |  | Entire County.
Nemaha |  | Entire County.
Pottawatomie |  | Entire County.
Jackson |  | Entire County, except the Pottawatomie Reservation.
Kentucky: None.
Louisiana:
East Baton Rouge Parish | 729,986 | City of Baton Rouge: Starting at the Long Allen Bridge: East to Plank Road (Highway 67); North to Hooper Road (State Highway 408); Northeast on Hooper Road to Greenwell Springs Road (State Highway 37); South and Southwest on Greenwell Springs Road to Airline Highway; Southeast on Airline Highway to Bayou Manchac; West on Bayou Manchac to the Mississippi River; North to the Long Allen Bridge.
Maine: None.
Maryland: None.
Massachusetts: Middlesex | 816,234 | City of Somerville.
Michigan: None.
Minnesota:
Anoka | 557,788 | Entire County.
Becker | 915,940 | Entire County.
Hubbard |  | Entire County.
Mahnomen |  | Entire County.
Mississippi:
Lee | 1,655,454 | Tupelo.
Lafayette |  | Oxford.
Grenada |  | Grenada.
Marshall |  | Byhalia, Holly Springs.
Panola |  | Batesville.
Pontotoc |  | Entire County.
Tallahatchie |  | Glendoro.
Tate |  | Senatobia.
Tunica |  | Entire County.
Chickasaw |  | Houston.
Oktibbeha |  | Starkville.
Clay |  | West Point.
DeSota |  | Walls.
Lowndes |  | Columbus.
Noxubee |  | Macon.
Missouri:
St. Charles | 1,470,549 | Entire County.
Montgomery |  | Entire County.
Lincoln |  | Entire County.
Warren |  | Entire County.
Montana: None.
Nebraska:
Adams | 1,255,499 | Entire County.
Clay |  | Entire County.
Franklin |  | Entire County.
Nuckolls |  | Entire County.
Webster |  | Entire County.
Hall |  | Entire County.
Lancaster | 1,246,779 | City of Lincoln.
Nevada: None.
New Hampshire: None.
New Jersey:
Hudson | 617,135 | Union City, North Bergen, West New York, Weehawken, Guttenberg, and Seacaucus.
Passaic | 452,329 | West Milford, Wayne, Ringwood, Bloomingdale, Little Falls, Haledon, Pompton Lakes, and Hawthorne.
New Mexico: Lea | 382,483 | Hobbs and Lovington.
New York:
Bronx | 1,334,471 | (1) 3rd Ave. and Courtland Ave. through E. 161st Street; Grand Ave. through East Featherbed Lane; University Ave through West 182nd Street; East 146th Street through 156th Street; West on St. Anns Ave and Union Ave;
|  | (2) Fulton Ave. to Park Ave.;
|  | (3) East 171st Street and Prospect Ave, through East 182nd;
|  | (4) East 183rd Street and East 187th St. to East Mosholu;
|  | (5) North on Longwood Ave. and Boston Rd and Jennings St.;
|  | (6) Charlotte St. and White Plains Rd;
|  | (7) Sedwick Ave. and Goulden Ave through West 242 St.;
|  | (8) West 183rd St. and Grand Concourse through Mosholu to Bruckner Blvd;
|  | (9) Mott Haven and Hunts Point (Community Board # 1 & 2);
|  | (10) Spuyten Duyvil (Community Board # 8); University Heights (Community Board #7).
Cattaraugus | 468,962 | Entire County.
Chenango | 450,808 | Entire County.
Monroe | 1,995,614 | City of Rochester.
Rensselaer | 670,221 | Entire County.
Steuben | 329,700 | Entire County.
Yates |  | Entire County.
Westchester | 941,224 | Entire county, excluding the City of White Plains.
Erie | 1,277,058 | In the City of Buffalo: Teen mothers and pregnant women attending the following high schools: Bennett, Lafayette, Grover Cleveland, Emmerson Vocational, South Park, Riverside, Seneca, Kensington, Alternative, City of Schools, Performing Arts, Buffalo Traditional, Hutch Technical, McKinley, Burgard, and City Honors.
Schenectady | 1,057,663 | City of Schenectady.
North Carolina:
Macon | 1,373,410 | Entire County.
Orange | 1,033,956 | Entire County.
North Dakota: None.
Ohio:
Medina | 766,061 | Entire County.
Wayne |  | Entire County.
Oklahoma:
Choctaw | 673,734 | Entire County.
McCurtain |  | Entire County.
Pushmataha |  | Entire County.
Oklahoma | 1,229,092 | Oklahoma City: an area bounded on the North by North 50th; on the East by Bryant Avenue; on the South by South 44th; and on the West by Meridian Avenue.
Oregon: None.
Pennsylvania:
Bedford | 731,016 | Entire County.
Centre | 898,511 | Entire County.
Clearfield |  | Entire County.
Fulton | 324,104 | Entire County.
Lackawanna | 303,147 | Entire County.
Wayne |  | Entire County.
Pike |  | Entire County.
Susquehanna |  | Entire County.
Synder | 940,548 | Entire County.
Union |  | Entire County.
Mifflin |  | Entire County.
Philadelphia | 836,403 | City of Philadephia: An area bounded by Pine Street on the North; Broad Street on the East; Philadephia Naval Base on the South; and Schuylkill River on the West
Rhode Island: None.
South Carolina: None.
South Dakota: Pennington | 820,335 | Rapid City and the communities of Fox Elder and Rapid Valley within the incorporated limits of Rapid City.
Tennessee: None.
Texas: Taylor | 1,771,957 | Abilene Independent School District boundaries.
Utah: None.
Vermont: None.
Virginia:
York | 879,473 | City of Williamsburg and James City.
Arlington | 1,723,326 | Entire County.
Loudoun |  | Entire County.
Prince William |  | Entire County including Manassas and Manassas Park.
Roanoke | 918,305 | City of Roanoke.
Washington: None.
West Virginia:
Cabel | 1,190,620 | Cities of Huntington and Barboursville.
Lincoln |  | Towns of Harts and Ranger.
Wayne |  | Towns of Crum and Fort Gay.
Wisconsin:
Dane | 901,617 | Entire County.
Waukesha | 497,681 | Entire County.
Wyoming: None.
District of Columbia: None.
Commonwealth of Puerto Rico:
Municipal Government of Santa Isabel | 910,972 | Santa Isabel.
Municipality of Bayamon | 675,044 | Bayamon.

[FR Doc. 01-23521 Filed 9-19-01; 8:45 am]

BILLING CODE 4184-01-P